ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, January 10-12, 2011, at the times and location noted below.

DATES: The schedule of events is as follows:

Monday, January 10, 2011

10:45-11:15 a.m. Budget Committee

11:15-Noon Technical Programs Committee

1:30-2:30 p.m. Planning and Evaluation Committee

2:45-4 Ad Hoc Committee Meetings: Closed to Public

Tuesday, January 11, 2011

9-2:45 p.m. Ad Hoc Committee Meetings: Closed to Public

3-4 Ad Hoc Committee Meetings: Airport Terminal Access, Accessible Design in Education

Wednesday, January 12, 2011

9:30-Noon Frontiers Ad Hoc Committee Meetings

1:30-3 p.m. Board Meeting

ADDRESSES: All meetings will be held at the Access Board Conference Room, 1331 F Street, NW., Suite 800, Washington, DC 20004.

FOR FURTHER INFORMATION CONTACT: For further information regarding the meetings, please contact David Capozzi, Executive Director, (202) 272-0010 (voice); (202) 272-0082 (TTY).

SUPPLEMENTARY INFORMATION: At the Board meeting scheduled on the afternoon of Wednesday, January 12, 2011, the Access Board will consider the following agenda items:

• Approval of the draft November 10, 2010 meeting minutes

• Budget Committee Report

• Planning and Evaluation Committee Report

• Technical Programs Committee Report

• Ad Hoc Committee Reports

○ Shared Use Paths Accessibility Guidelines—Advance Notice of Proposed Rulemaking (vote)

○ Public Rights-of-Way Accessibility Guidelines—Notice of Proposed Rulemaking (vote)

• Executive Director's Report

• Presentation from Aaron Bishop, Executive Director, National Council on Disability

• Public Comment, Open Topics

All meetings are accessible to persons with disabilities. An assistive listening system, computer assisted real-time transcription (CART), and sign language interpreters will be available at the Board meeting and committee meetings. Persons attending Board meetings are requested to refrain from using perfume, cologne, and other fragrances for the comfort of other participants (see http://www.access-board.gov/about/policies/fragrance.htm for more information).

David M. Capozzi,
Executive Director.

[FR Doc. 2010-32105 Filed 12-21-10; 8:45 am]

BILLING CODE 8150-01-P